DEPARTMENT OF ENERGY

Federal Energy Regulatory Commission

[Docket No. IC09-576-000]

Commission Information Collection Activities (FERC-576); Comment Request; Extension

January 29, 2009.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Comments in consideration of the collection of information are due April 9, 2009.

ADDRESSES: Comments may be filed either electronically or in paper format, and should refer to Docket No. IC09-576-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-576. For user assistance, contact FERC Online Support (e-mail at ferconlinesupport@ferc.gov, or call toll-free at (866) 208-3676, or for TTY, contact (202) 502-8659).

FOR FURTHER INFORMATION CONTACT: Michael Miller may be reached by telephone at (202) 502-8415, by fax at (202) 273-0873, and by e-mail at michael.miller@ferc.gov.

SUPPLEMENTARY INFORMATION: Under the Natural Gas Act (NGA) (Pub. L. 75-688) (15 U.S.C. 717-717w), a natural gas company must obtain Commission authorization to engage in the transportation, sale or exchange of natural gas in interstate commerce. The Commission is also empowered to oversee continuity of service in the transportation of natural gas in interstate commerce. The information collected under FERC-576 (Report of Service Interruptions; OMB Clearance No. 1902-0004) notifies the Commission of: (1) Damage to jurisdictional natural gas facilities as a result of a hurricane, earthquake, or other natural disaster, or terrorist activity, (2) serious interruptions to service, and (3) damage to jurisdictional natural gas facilities due to natural disaster or terrorist activity, that creates the potential for serious delivery problems on the pipeline's own system or the pipeline grid.

Filings in accordance with the provisions of section 4(d) of the Natural Gas Act (NGA) (15 U.S.C. 717c) are to contain information necessary to advise the Commission when a change in service has occurred. Under section 7(d) of the NGA (15 U.S.C. 717f), the Commission may issue a temporary certificate in cases of emergency to assure maintenance of adequate service or to serve particular customers, without notice or hearing.

The FERC-576 initial reports are submitted by e-mail to pipelineoutage@ferc.gov or by facsimile transmission. 18 CFR 260.9(b) requires that a report of service interruption or damage to natural gas facilities state: (1) The location of the service interruption or damage to natural gas pipeline or storage facilities; (2) The nature of any damage to pipeline or storage facilities; (3) Specific identification of the facilities damaged; (4) The time the service interruption or damage to the facilities occurred; (5) The customers affected by the service interruption or damage to the facilities; (6) Emergency actions taken to maintain service; and (7) Company contact and telephone number. (In response to these reports, the Commission may contact other pipelines to determine available supply, and if necessary, authorize transportation or construction of facilities to alleviate the problem.) The company also reports to the Commission when pipeline throughput or storage deliverability has been restored.

Failure by the Commission to collect this information would mean that it is unable to monitor and evaluate transactions, operations, and reliability of interstate pipelines and perform its regulatory functions.

In coordination with the U.S. Department of Transportation (DOT), FERC has reviewed the reporting requirements. FERC and DOT have concluded that there is minimal duplication, the intent, timing, and the information collected serve different needs, and a common form is not appropriate.¹

Action: The Commission is requesting a three-year extension of the current expiration date, with no changes to the existing collection of data.

Burden Statement: Public reporting burden for this collection is estimated at:

FERC data collection—FERC-576 | Number of respondents [events] annually | Number of responses per respondent | Average burden hours per response | Total annual burden hours
| (1) | (2) | (3) | (1)×(2)×(3)
Submittal to FERC of the original e-mail and follow-up e-mail ² | 40 | ² 2 | 1 | ² 80
Submittal of damage report to state commissions | 40 | 1 | 0.25 | 10
Submittal to FERC of copy of DOT incident report | 40 | 1 | 0.25 | 10
¹ FERC needs the information immediately, and DOT receives its detailed form after 30 days. DOT's immediate telephonic report is used to decide whether they need to send a field person on-site. In addition, some incidents are reportable only to FERC.
² This includes the original e-mail, plus the follow-up e-mail (sent when throughput or storage deliverability has been restored).

The estimated cost burden to respondents is $6,076.15 (100 hours/2080 hours per year times $126,384 per year average per employee = $6,076.15).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology, e.g., permitting electronic submission of responses.

Kimberly D. Bose,
Secretary.

[FR Doc. E9-2520 Filed 2-5-09; 8:45 am]

BILLING CODE 6717-01-P